DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Addiction Technology Transfer Centers (ATTC) Network National Workforce Surveys—NEW

The ATTC Network, a nationwide, multidisciplinary resource that draws upon the knowledge, experience and latest research of recognized experts in the field of addictions and behavioral health, is a unique Center Substance Abuse Treatment (CSAT) initiative formed in 1993 in response to a shortage of well-trained addiction and behavioral health professionals in the public sector. The ATTC Network works to enhance the knowledge, skills and aptitudes of the addiction/behavioral health treatment and recovery services workforce by disseminating current health services research from the National Institute on Drug Abuse, National Institute on Alcohol Abuse and Alcoholism, National Institute of Mental Health, Agency for Healthcare Research and Quality, National Institute of Justice, and other sources, as well as other SAMHSA programs. To accomplish this, the ATTC Network: (1) Develops and updates state-of-the-art research based curricula and professional development training, (2) coordinates and facilitates meetings between Single State Authorities, Provider Associations and other key stakeholders, and (3) provides ongoing technical assistance to individuals and organizations at the local, regional and national levels.

In response to the emerging shortages of qualified addiction treatment and recovery services professionals, SAMHSA/CSAT instructed the ATTC National Office to lead the ATTC Network in the development and implementation of a national addiction treatment workforce data collection effort of those individuals who work in substance use specialty treatment services. The purpose of this survey and data collection is to gather information to guide the formation of effective national, regional, state, and organizational policies and strategies aimed at successfully recruiting and retaining a sufficient number of adequately prepared providers who are able to respond to the growing needs of those affected by substance use and mental health disorders; including co-occurring disorders and trauma. This data collection will offer a unique perspective on the clinical treatment field so that CSAT and the ATTC Network can better understand current successful strategies and methodologies being used in the workforce and develop appropriate training for emerging trends in the field.

Although SAMHSA/CSAT is the primary target audience for data collection findings, it is expected that the data collected and resulting reports will also be useful to the ATTC Network, as well as to Single State Agencies, provider organizations, professional organizations, training and education entities, and individuals in the workforce.

Overview of Data Collection and Purposes

Data will be collected from two main sources: (1) Interviews with Single State Authorities (SSAs) in all fifty states (2) A national sample of agency directors or their designees, identified by CSAT in conjunction with the ATTC network, in the substance use disorders treatment field. Respondents will be asked to participate in telephone interviews. In addition to this original data collection, existing national data sets will also be utilized. Such data systems will include:

• Census 2000 datasets

• National Survey of Substance Abuse Treatment Services (N-SSATS)

• SAMHSA Treatment Gap Projection Analysis

• Treatment Episode Data

• Bureau of Labor datasets such as Current Employment Statistics

• Annapolis Coalition Data

Provider Association Survey: The provider association survey will be a single question web survey asking association directors to nominate providers that they believe are exemplary in recruitment, retention or staff development. The purpose of this survey is to triangulate responses from three sources, the SSA, the ATTC and the provider association to identify providers that are considered by all three to be exceptional in their ability to recruit, retain or provide staff development for SUD direct service employees.

State Substance Abuse Authorities Interview: Each state substance abuse authority or their designee will be interviewed to identify concerns regarding work force development, state level strategies to improve recruitment, retention and development of the addiction treatment workforce, changes that have occurred within the past five years and any treatment organization level practices that they think have been particularly successful. They will be asked to identify provider organizations that have exemplary practices to interview.

Program Director/Key Staff Interview: Based on identification by state SSA, state provider association nomination and ATTC/CSAT staff identification, a minimum of 60 addiction treatment provider organizations will be selected for telephone interviews. These organizations may be specialty addiction treatment programs, community mental health centers that provide addiction treatment services or primary care organizations that provide addiction treatment services. The purpose of these interviews is to identify exemplary practices in recruitment, retention and staff development for direct service staff working with patients with SUDs. An interview script has been developed to guide the question formation for the interviews.

Overview of Questions Related to Data Collection

The objectives of the national addiction treatment workforce data collection effort are to explore issues related to workforce development: (1) Staff training, recruitment and retention; (2) Professional development; and (3) Support for strategies and methodologies to prepare, recruit, retain, and sustain the workforce. To accomplish these objectives, CSAT outlined two primary questions to be addressed by the workforce data collection:

1. What are the anticipated workforce development needs for 2017-2022?

For the purposes of this data collection, the ATTC Network will identify the growth and capacity-building needs over the next five years of direct care staff, clinical supervisors, and administrators in agencies represented in the I-SATS registry.

2. What are the common strategies and methodologies to prepare, retain, and maintain the workforce?

Identification of potentially effective strategies used to prepare and recruit individuals to enter the workforce (as previously defined), and encourage them to remain in the workforce and stay current on clinical and other job related skills (e.g., evidence based practices).

Information collected from this workforce data collection will help CSAT and the ATTC Network to better understand the needs of the workforce and categorize some best practices for providing support to the field now and in the future. Emerging trends in addiction and/or co-occurring and trauma treatment and the existence of mental health problems in substance use disorder treatment and recovery services will be identified and shared with those in the addiction/behavioral health treatment field so appropriate training and funding can be allocated. The information from this data collection will also help CSAT identify areas where deficiencies in substance use and/or co-occurring disorder and trauma treatment exist and provide assistance to regions (and states) to help them develop and adopt strategies for addressing this.

The chart below summarizes the annualized burden for this project.

Type of respondent | Number of respondents | Responses per respondent | Total number of responses | Hours per response | Total burden hours
SSA telephone interview | 60 | 1 | 60 | 1 | 60
Provider Organization Key Staff Telephone Interviews | 60 | 1 | 60 | 1 | 60
Provider Association Survey | 50 | 1 | 50 | .25 | 12.5
Total | 170 |  | 170 |  | 132.5

Send comments to Summer King, SAMHSA Reports Clearance Officer, Room 2-1057, One Choke Cherry Road, Rockville, MD 20857 or email her a copy at summer.king@samhsa.hhs.gov. Written comments should be received by April 6, 2015.

Summer King,
Statistician.

[FR Doc. 2015-02081 Filed 2-3-15; 8:45 am]

BILLING CODE 4162-20-P